DEPARTMENT OF ENERGY

Federal Energy Regulatory Commission

[Docket Nos. RP00-336-000, RP00-336-001 and RP00-336-002]

El Paso Natural Gas Company; Notice of Technical Conference

June 8, 2001.

On June 15, 2000, and August 15, 2000,¹ El Paso Natural Gas Company (El Paso) submitted filings to comply with Order No. 637. Several parties have protested various aspects of El Paso's filing. In addition, on March 28, 2001, El Paso filed, in accordance with the Commission's February 26, 2001 order in Docket No. RP00-336-004,² a proposal addressing system-wide capacity allocation issues. Numerous parties filed comments on this proposal.

¹ El Paso's August 15, 2000 filing contains its segmentation plan.

² 94 FERC ¶ 61,225 (2001).

Take notice that a technical conference to discuss the various issues raised by El Paso's filings will be held on Wednesday, July 18, 2001, at 10 am, in a room to be designated at the offices of the Federal Energy Regulatory Commission, 888 First Street, NE., Washington, DC 20426. The conference will continue through Thursday, July 19, 2001, if necessary. Parties protesting aspects of El Paso's filings should be prepared to discuss alternatives.

All interested parties and Staff are permitted to attend.

Linwood A. Watson, Jr.,
Acting Secretary.

[FR Doc. 01-15008 Filed 6-13-01; 8:45 am]

BILLING CODE 6717-01-M